DEPARTMENT OF HOUSING AND URBAN DEVELOPMENT

[Docket No. 5500-FA-05]

Announcement of Funding Awards, Capital Fund Education and Training Community Facilities (CFCF) Program, Fiscal Year 2011

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the Fiscal Year 2011 (FY 2011) Notice of Funding Availability (NOFA) for the Capital Fund Education and Training Community Facilities (CFCF) Program. This announcement contains the consolidated names and addresses of this year's award recipients under the CFCF program.

FOR FURTHER INFORMATION CONTACT: For questions concerning the CFCF Program awards, contact Jeffrey Riddel, Director, Office of Capital Improvements, Office of Public Housing, Department of Housing and Urban Development, 451 7th Street SW., Room 4130, Washington, DC 20410, telephone (202) 402-7378. Hearing or speech-impaired individuals may access this number via TTY by calling the toll-free Federal Relay Service at (800) 877-8339.

SUPPLEMENTARY INFORMATION: The CFCF program provides grants to Public Housing Agencies (PHAs) to develop facilities to provide early childhood education, adult education, and/or job training programs for public housing residents. More specifically, in accordance with Section 9 of the United States Housing Act of 1937 (42 U.S.C. 1437g) (1937 Act), and the Department of Defense and Full-Year Continuing Appropriations Act, 2011 (Pub. L. 112-10, approved April 15, 2011) (FY 2011 appropriations), the CFCF program provides grants to PHAs to: (1) Construct new community facilities; (2) purchase or acquire facilities; or (3) rehabilitate existing facilities to be used as education and training community facilities by PHA residents. The facilities are for the predominant use of PHA residents; however, non-public housing residents may participate.

The FY 2011 awards announced in this Notice were selected for funding in a competition posted on HUD's Web site on May 24, 2011. Applications were scored and selected for funding based on the selection criteria in that NOFA.

These awards are funded from the set-aside in the FY 2011 appropriations and are in addition to the awards announced by HUD on October 24, 2011 (76 FR 65743).

In accordance with Section 102 (a)(4)(C) of the Department of Housing and Urban Development Reform Act of 1989 (103 Stat. 1987, 42 U.S.C. 3545), the Department is publishing the names, addresses, and amounts of the 4 awards made under the competition in Appendix A to this document.

Dated: May 2, 2012.
Sandra B. Henriquez,
Assistant Secretary for Public and Indian Housing.

Appendix A

Capital Fund Education and Training Community Facilities (CFCF) Program
Name/address of applicant | Amount funded | Activity funded | Project description
Housing Authority of the City of Jersey City, 400 U.S. Highway One, Jersey City, NJ 07102-3112 | $998,640 | Construction of a New Facility | Development of a facility at which the PHA will provide adult education and job training.
Housing Authority of the City of Milwaukee, P.O. Box 324, Milwaukee, WI 53201-0324 | 1,237,900 | Construction of a New Facility | Development of a facility at which the PHA will provide early education, adult education and job training.
Housing Authority of the City of New Britain, 16 Armistice Street, New Britain, CT 06053-3927 | 4,000,000 | Construction of a New Facility | Development of a facility at which the PHA will provide early education, adult education and job training.
Housing Authority of the County of San Joaquin, 448 S. Center Street, San Joaquin, CA 95203-3426 | 278,656 | Construction of a New Facility | Development of a facility at which the PHA will provide adult education, early childhood education, and job training.

[FR Doc. 2012-12138 Filed 5-17-12; 8:45 am]

BILLING CODE 4210-67-P